DEPARTMENT OF COMMERCE

International Trade Administration

[A-489-829]

Steel Concrete Reinforcing Bar From the Republic of Turkey: Preliminary Results of Antidumping Duty Administrative Review and Preliminary Determination of No Shipments; 2020-2021

AGENCY: Enforcement and Compliance, International Trade Administration, Department of Commerce.

SUMMARY: The U.S. Department of Commerce (Commerce) preliminarily determines that producers or exporters of steel concrete reinforcing bar (rebar) from the Republic of Turkey (Turkey) subject to this review made sales of subject merchandise at less than normal value during the period of review (POR) July 1, 2020, through June 30, 2021. Additionally, we preliminarily find that one company made no shipments of subject merchandise to the United States during the POR. We invite interested parties to comment on these preliminary results.

DATES: Applicable August 5, 2022.

FOR FURTHER INFORMATION CONTACT: Robert Copyak or Jose Rivera, AD/CVD Operations, Office VII, Enforcement and Compliance, International Trade Administration, U.S. Department of Commerce, 1401 Constitution Avenue NW, Washington, DC 20230; telephone: (202) 482-3642 or (202) 482-0842, respectively.

SUPPLEMENTARY INFORMATION:

Background

On July 14, 2017, Commerce published the antidumping duty order on rebar from Turkey.¹ On August 31, 2021, based on timely requests for a review, in accordance with 19 CFR 351.221(c)(1)(i), Commerce initiated an administrative review of the Order, covering six companies.² On September 29, 2021, Commerce selected Colakoglu ³ and Kaptan ⁴ as the mandatory respondents for this review.⁵ On March 15, 2021, pursuant to section 751(a)(3)(A) of the Tariff Act of 1930, as amended (the Act), and 19 CFR 351.213(h)(2), Commerce extended the time limit for issuing the preliminary results of this administrative review by 118 days to July 29, 2022.⁶

¹ See Steel Concrete Reinforcing Bar from the Republic of Turkey and Japan: Amended Final Affirmative Antidumping Duty Determination for the Republic of Turkey and Antidumping Duty Orders, 82 FR 32532 (July 14, 2017), as amended by Notice of Court Decision Not in Harmony With the Amended Final Determination in the Less-Than-Fair-Value Investigation; Notice of Amended Final Determination, 87 FR 934 (January 22, 2022) (Order).

² See Initiation of Antidumping and Countervailing Duty Administrative Reviews, 86 FR 50034 (August 31, 2021) (Initiation Notice).

³ Colakoglu is comprised of the collapsed entity Colakoglu Metalurji A.S. (Colakoglu Metal) and Colakoglu Dis Ticaret A.S. (COTAS). See Steel Concrete Reinforcing Bar from the Republic of Turkey: Preliminary Results of Antidumping Administrative Review and Preliminary Determination of No Shipments; 2019-2020, 86 FR 43181 (August 6, 2021) (Rebar from Turkey 2019-2020 Preliminary Results), and accompanying Preliminary Decision Memorandum (PDM), at 6-9, unchanged in Steel Concrete Reinforcing Bar from the Republic of Turkey: Final Results of Antidumping Administrative Review and Final Determination of No Shipments; 2019-2020, 87 FR 7118 (February 8, 2022) (Rebar from Turkey 2019-2020 Final Results), and accompanying Issues and Decision Memorandum (IDM), at 5.

⁴ Kaptan is comprised of the collapsed entity Kaptan Demir Celik Endustrisi Ve Ticaret A.S. (Kaptan Demir) and Kaptan Metal Dis Ticaret Ve Nakliyat A.S. (Kaptan Metal). See Rebar from Turkey 2019-2020 Preliminary Results PDM at 6-9, unchanged in Rebar from Turkey 2019-2020 Final Results IDM at 5.

⁵ See Memorandum, “Respondent Selection Memorandum for Administrative Review of Antidumping Duty Order on Steel Concrete Reinforcing Bar from the Republic of Turkey; 2020-2021,” dated September 29, 2021.

⁶ See Memorandum, “Extension of Deadline for Preliminary Results of Antidumping Duty Administrative Review,” dated March 21, 2022.

Scope of the Order

The product covered by the Order is steel concrete reinforcing bar from Turkey. For a full description of the scope, see the Preliminary Decision Memorandum.⁷

⁷ See Memorandum, “Decision Memorandum for Preliminary Results of the Antidumping Duty Administrative Review: Steel Concrete Reinforcing Bar from the Republic of Turkey; 2020-2021,” dated concurrently with, and hereby adopted by, this notice (Preliminary Decision Memorandum).

Methodology

Commerce is conducting this review in accordance with section 751(a) of the Act. Export price and constructed export price are calculated in accordance with section 772 of the Act. Normal value is calculated in accordance with section 773 of the Act.

For a full description of the methodology underlying these preliminary results, see the Preliminary Decision Memorandum. A list of topics discussed in the Preliminary Decision Memorandum is attached as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Determination of No Shipments

On August 25, 2021, Habas Sinai ve Tibbi Gazlar Istihsal Endüstrisi A.S (Habas), an exporter of rebar named in the Initiation Notice, submitted a letter certifying that it made no shipments of subject merchandise to the United States during the POR.⁸ Subsequently, Commerce sent an inquiry to U.S. Customs and Border Protection (CBP) to confirm Habas' no shipment claim.⁹ CBP informed Commerce that its data indicated that Habas had no shipments during the POR.¹⁰ Based on the certification of Habas claiming no shipments and the lack of record evidence contradicting its no-shipment claims, we preliminarily determine that Habas did not have any shipments of subject merchandise during the POR. Consistent with our practice, we will not rescind the review with respect to Habas, but rather will complete the review and issue instructions to CBP based on the final results.¹¹

⁸ See Habas' Letter, “Habaş No Shipment Letter,” dated August 25, 2021.

⁹ See CBP Instructions, “No Shipments Inquiry for Steel Concrete Reinforcing Bar from the Republic of Turkey Produced and/or Exported by Habas Sinai ve Tibbi Gazlar Istihsal Endustri A.S. (A-489-829) (Message No. 2207403),” dated July 26, 2022.

¹⁰ See Memorandum, “Steel Concrete Reinforcing Bar from the Republic of Turkey (A-489-829): No Shipment Inquiry with Respect to the Company Listed Below during the period 07/01/2020 through 06/30/2021,” dated July 29, 2022.

¹¹ See, e.g., Welded Carbon Steel Standard Pipe and Tube Products from Turkey: Preliminary Results of Antidumping Duty Administrative Review; 2013-2014, 80 FR 32090, 32091 (June 5, 2015), unchanged in Welded Carbon Steel Standard Pipe and Tube Products from Turkey: Final Results of Antidumping Duty Administrative Review and Final Determination of No Shipments; 2013-2014, 80 FR 76674 (December 10, 2015).

Rates for Companies Not Individually Examined

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely on the basis of facts available.”

In this review, we preliminarily calculated a weighted-average dumping margin of 5.79 percent for Kaptan and a weighted-average dumping margin of 1.13 percent for Colakoglu. With two respondents under individual examination, Commerce normally calculates: (A) a weighted-average of the estimated dumping rates calculated for the examined respondents; (B) a simple average of the estimated dumping rates calculated for the examined respondents; and (C) a weighted-average of the estimated dumping rates calculated for the examined respondents using each company's publicly-ranged U.S. sale values for the merchandise under consideration. Commerce then compares (B) and (C) to (A) and selects the rate closest to (A) as the most appropriate rate for all other producers and exporters.¹² Consistent with our practice, we have preliminarily determined that 3.92 percent, which is the weighted-average of Kaptan's margin and Colakoglu's margin based on publicly ranged data, will be assigned to the non-examined companies under section 735(c)(5)(A) of the Act.¹³ These companies are Diler Dis Ticaret A.S., Icdas Celik Enerji Tersane ve Ulasim, and Sami Soybas Demir Sanayi ve Tiscaret A.S.

¹² See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

¹³ For a complete analysis of the data, see Memorandum, “Calculation of the Cash Deposit Rate for Non-Selected Companies,” dated concurrently with this notice (Non-Selected Companies Memorandum).

Preliminary Results of Review

We preliminarily determine that following weighted-average dumping margins exist for the period July 1, 2020, through June 30, 2021:

Producers/exporters | Weighted-average dumping margin (percent)
Colakoglu Metalurji A. S./Colakoglu Dis Ticaret A.S. (COTAS) ¹⁴ | 1.13
Kaptan Demir Celik Endustrisi ve Ticaret A.S./Kaptan Metal Dis Ticaret Ve Nakliyat A.S. ¹⁵ | 5.79
Review-Specific Average Rate Applicable to the Following Companies: ¹⁶
Diler Dis Ticaret A.S | 3.92
Icdas Celik Enerji Tersane ve Ulasim Sanayi A.S | 3.92
Sami Soybas Demir Sanayi ve Tiscaret A.S | 3.92

Disclosure and Public Comment

¹⁴ We collapsed Colakoglu and COTAS in the 2019-2020 administrative review. See Rebar from Turkey 2019-2020 Preliminary Results PDM), unchanged in Rebar from Turkey 2019-2020 Final Results IDM at 5. Because there is no information on the record of this administrative review that would lead us to revisit this determination, we are continuing to treat these companies as part of a single entity for the purposes of this administrative review.

¹⁵ We collapsed Kaptan Demir and Kaptan Metal in the 2019-2020 administrative review. See Rebar from Turkey 2019-2020 Preliminary Results PDM at 6-9, unchanged in Rebar from Turkey 2019-2020 Final Results IDM at 5. Because there is no information on the record of this administrative review that would lead us to revisit this determination, we are continuing to treat these companies as part of a single entity for the purposes of this administrative review.

¹⁶ This rate is based on the rates for the respondents that were selected for individual review, excluding rates that are zero, de minimis, or based entirely on facts available. See section 735(c)(5)(A) of the Act; see also Non-Selected Companies Memorandum.

Commerce intends to disclose the calculations performed in connection with these preliminary results to interested parties within five days after the date of publication of this notice in accordance with 19 CFR 351.224(b).

Interested parties may submit case briefs no later than 30 days after the date of publication of this notice.¹⁷ Rebuttal briefs, limited to issues raised in the case briefs, may be filed not later than seven days after the time limit for filing case briefs.¹⁸ Parties who submit case briefs or rebuttal briefs in this proceeding are encouraged to submit with each argument: (1) a statement of the issue; (2) a brief summary of the argument; and (3) a table of authorities.¹⁹ Executive summaries should be limited to five pages total, including footnotes.²⁰ Case and rebuttal briefs should be filed using ACCESS and must be served on interested parties.²¹ Note that Commerce has temporarily modified certain of its requirements for serving documents containing business proprietary information, until further notice.²²

¹⁷ See 19 CFR 351.309(c)(1)(ii); see also 19 CFR 351.303 (for general filing requirements).

¹⁸ See 19 CFR 351.309(d)(1).

¹⁹ See 19 CFR 351.309(c)(2) and (d)(2).

²⁰ Id.

²¹ See 19 CFR 351.303.

²² See Temporary Rule Modifying AD/CVD Service Requirements Due to COVID-19; Extension of Effective Period, 85 FR 41363 (July 10, 2020).

Pursuant to 19 CFR 351.310(c), any interested party who wishes to request a hearing must submit a written request to the Assistant Secretary for Enforcement and Compliance within 30 days of publication of this notice. Hearing requests should contain: (1) the party's name, address, and telephone number; (2) the number of participants; and (3) a list of the issues to be discussed. Issues raised in the hearing will be limited to issues raised in the case and rebuttal briefs. If a request for a hearing is made, Commerce intends to hold the hearing at a time and date to be determined.²³ Parties should confirm by telephone the date, time, and location of the hearing two days before the scheduled date.

²³ See 19 CFR 351.310(c).

All submissions to Commerce must be filed electronically using ACCESS ²⁴ and must also be served on interested parties.²⁵ An electronically filed document must be received successfully in its entirety by ACCESS, by 5 p.m. Eastern Time on the date that the document is due.

²⁴ See 19 CFR 351.303.

²⁵ See 19 CFR 351.303(f).

Unless otherwise extended, Commerce intends to issue the final results of this administrative review, including the results of our analysis of issues raised by parties in any briefs, within 120 days of publication of these preliminary results, pursuant to section 751(a)(3)(A) of the Act and 19 CFR 351.213(h)(1).

Assessment Rates

Upon issuance of the final results, Commerce will determine, and U.S. CBP shall assess, antidumping duties on all appropriate entries covered by this review.²⁶ The final results of this review shall be the basis for the assessment of antidumping duties on entries of merchandise covered by this review and for future deposits of estimated duties, where applicable.²⁷

²⁶ 19 CFR 351.212(b)(1).

²⁷ See section 751(a)(2)(C) of the Act.

Pursuant to 19 CFR 351.212(b)(1), where an examined respondent's weighted-average dumping margin is not zero or de minimis (i.e., less than 0.5 percent) in the final results of this review, we will calculate an importer-specific ad valorem duty assessment rate based on the ratio of the total amount of dumping calculated for the U.S. sales for a given importer to the total entered value of those sales. Where a mandatory respondent did not report entered value, we calculated the entered value to calculate the assessment rate. Where either the respondent's weighted-average dumping margin is zero or de minimis within the meaning of 19 CFR 351.106(c)(1), or an importer-specific assessment rate is zero or de minimis, we will instruct CBP to liquidate the appropriate entries without regard to antidumping duties.

For the companies which were not selected for individual examination, we intend to assign an assessment rate based on the methodology described in the “Rates for Non-Examined Companies” section.

For entries of subject merchandise during the POR produced by each mandatory respondent which it did not know its merchandise was destined for the United States and for all entries attributed to Habas, which we preliminarily find had no shipments during the POR, we will instruct CBP to liquidate such unreviewed entries pursuant to the reseller policy, i.e., the assessment rate for such entries will be equal to the all-others rate established at the investigation (i.e., 3.90 percent ad valorem),²⁸ if there is no rate for the intermediate company(ies) involved in the transaction.²⁹

²⁸ See Order, 87 FR 935.

²⁹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies under review will be the rate established in the final results of this review (except, if the rate is de minimis, within the meaning of 19 CFR 351.106(C)(1), no cash deposit will be required); (2) for previously reviewed or investigated companies not participating in this review, the cash deposit rate will continue to be the company-specific rate published for the most recently-completed segment of this proceeding in which the company participated; (3) if the exporter is not a firm covered in this review, a prior review, or the original investigation, but the producer is, the cash deposit rate will be the rate established for the most recently-completed segment of this proceeding for the producer of subject merchandise; and (4) the cash deposit rate for all other producers or exporters will continue to be 3.90 percent, the all-others rate established in the investigation.³⁰

³⁰ See Order, 87 FR 935.

These cash deposit instructions, when imposed, shall remain in effect until further notice.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

The preliminary results of review are issued and published in accordance with sections 751(a)(1) and 777(i)(1) of the Act, and 19 CFR 351.221(b)(4).

Dated: July 29, 2022.
Lisa W. Wang,
Assistant Secretary for Enforcement and Compliance.

Appendix

List of Topics Discussed in the Preliminary Decision Memorandum

I. Summary

II. Background

III. Scope of the Order

IV. Companies Not Selected for Individual Examination

V. Preliminary Determination of No Shipments

VI. Discussion of the Methodology

VII. Currency Conversion

VIII. Recommendation

[FR Doc. 2022-16822 Filed 8-4-22; 8:45 am]

BILLING CODE 3510-DS-P